GOVERNMENT PRINTING OFFICE

Depository Library Council to the Public Printer; Meeting

The Depository Library Council to the Public Printer (DLC) will meet on Sunday, April 18, 2004, through Wednesday, April 21, 2004, in St. Louis, Missouri. The sessions will take place from 1 p.m. until 4 p.m. and 7 p.m. to 10 p.m. on Sunday, 8:30 a.m. until 5 p.m. on Monday and Tuesday and from 8:30 a.m. until 3 p.m. on Wednesday. The meeting will be held at the Sheraton Westport Hotel, 900 West Port Plaza, St. Louis, Missouri. The purpose of this meeting is to discuss the Federal Depository Library Program. All sessions are open to the public.

There are no sleeping rooms remaining at the Sheraton Westport for the Government rate of $102 per night. We have made arrangements with the Sheraton to get additional sleeping rooms for our attendees. The Holiday Inn St. Louis-Westport, has offered us rooms for Saturday, April 17 through Wednesday, April 21. Rates will be $102 per night (plus tax) single or double. This rate will be honored through April 14, 2004. The Holiday Inn offers complimentary shuttle transportation to and from the airport and parking is free. The hotel will also provide complimentary transportation to the Sheraton Westport and the Sheraton Westport will provide complimentary transportation back to the Holiday Inn.

You can reserve your room by calling the hotel directly at 314-434-0100 and mention that you are with the U.S. Government Printing Office group. The Holiday Inn is in compliance with the requirements of Title III of the Americans With Disabilities Act and meets all Fire Safety Act regulations.

William H. Turri,
Deputy Public Printer.

[FR Doc. 04-8442 Filed 4-13-04; 8:45 am]

BILLING CODE 1520-01-P